DEPARTMENT OF COMMERCE

Foreign-Trade Zones Board

[B-90-2012]

Foreign-Trade Zone 26—Atlanta, Georgia, Authorization of Production Activity, Perkins Shibaura Engines, LLC (Diesel Engines), Griffin, Georgia

On November 29, 2012, Georgia Foreign-Trade Zone, Inc., grantee of FTZ 26, submitted a notification of proposed production activity to the Foreign-Trade Zones (FTZ) Board on behalf of Perkins Shibaura Engines, LLC, submitted a notification of proposed production activity to the Foreign-Trade Zones (FTZ) Board for its facility within FTZ 26-Site 6, in Griffin, Georgia.

The notification was processed in accordance with the regulations of the FTZ Board (15 CFR part 400), including notice in the Federal Register inviting public comment (77 FR 75406-75407, 12-20-2012). The FTZ Board has determined that no further review of the activity is warranted at this time. The production activity described in the notification is authorized, subject to the FTZ Act and the Board's regulations, including Section 400.14.

Dated: March 29, 2013.
Andrew McGilvray,
Executive Secretary.

[FR Doc. 2013-07740 Filed 4-2-13; 8:45 am]

BILLING CODE P